DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Voluntary Self-Disclosure of Antiboycott Violations.

OMB Control Number: 0694-0132.

Form Number(s): N/A.

Type of Request: Regular submission (extension of a current information collection).

Number of Respondents: 9.

Average Hours per Response: 10 to 600.

Burden Hours: 4,220.

Needs and Uses: This collection of information supports enforcement of the Antiboycott provisions of the Export Administration Regulations (EAR) by providing a method for industry to voluntarily self-disclose Antiboycott violations.

Affected Public: Businesses or other for-profit organizations.

Frequency: On occasion.

Respondent's Obligation: Voluntary.

Copies of the above information collection proposal can be obtained by calling or writing Jennifer Jessup, Departmental Paperwork Clearance Officer, (202) 482-0336, Department of Commerce, Room 6616, 14th and Constitution Avenue NW., Washington, DC 20230 (or via the Internet at JJessup@doc.gov.

Written comments and recommendations for the proposed information collection should be sent within 30 days of publication of this notice to Jasmeet Seehra, OMB Desk Officer, by email to Jasmeet_K._Seehra@omb.eop.gov, or by fax to (202) 395-5167.

Dated: January 23, 2014.
Gwellnar Banks,
Management Analyst, Office of the Chief Information Officer.

[FR Doc. 2014-01627 Filed 1-28-14; 8:45 am]

BILLING CODE 3510-33-P